DEPARTMENT OF AGRICULTURE

Animal and Plant Health Inspection Service

[Docket No. APHIS-2012-0010]

Information Sharing With Agency Stakeholders; Public Meeting

AGENCY: Animal and Plant Health Inspection Service, USDA.

ACTION: Request for information and notice of public meeting.

SUMMARY: We are informing the public that the Animal and Plant Health Inspection Service (APHIS) is soliciting feedback from our stakeholders in several areas having to do with our partnerships with businesses, academia, and other levels of government. We are also announcing that APHIS is hosting a public meeting to share information about the Agency's budget, process improvement efforts, and modernization initiatives and to provide an opportunity for stakeholders to share their thoughts on partnerships and the Agency's critical services.

DATES: The meeting will be held on February 27, 2012, from 1 p.m. to 3 p.m. We will accept stakeholder feedback on the specific topics raised in this notice until March 23, 2012.

ADDRESSES: The meeting will be held in the Jefferson Auditorium at the USDA South Building, 1400 Independence Avenue SW., Washington, DC.

FOR FURTHER INFORMATION CONTACT: Ms. Hallie Zimmers, Stakeholder Liaison, Legislative and Public Affairs, APHIS, Room 1153, 1400 Independence Avenue SW., Washington, DC 20250; phone (202) 720-0378.

SUPPLEMENTARY INFORMATION: The U.S. Department of Agriculture (USDA) is currently undertaking a variety of efforts to transform itself into a customer-focused, high-performing organization. In this context, USDA's Animal and Plant Health Inspection Service (APHIS) is focusing on ways to share timely information with its stakeholders and communicate the value APHIS places on our many and diverse stakeholder relationships.

As part of a larger effort to enhance stakeholder communication, APHIS is hosting an open meeting with all interested stakeholders to talk about the Agency's budget, process improvement efforts, and modernization initiatives and to provide stakeholders with an opportunity to share their thoughts on partnerships and the Agency's critical services. While we welcome comments and feedback on all aspects of APHIS-stakeholder partnerships and the Agency's critical services, we are particularly interested in our stakeholders' thoughts on the topics discussed below.

In this era of shrinking budgets, Federal Agencies are facing hard choices about the delivery of important services, and APHIS is no exception. Some decisions have already been made with respect to our programs, and we anticipate more difficult choices will be required in the future. This means that it will be more important than ever for APHIS to understand its stakeholders' concerns and priorities.

1. As we take stock of our current programs and services and consider where, if necessary, there should be strategic cuts or across-the-board reductions, we are interested in hearing from stakeholders about those APHIS activities you most value and where and how you think the Agency might make responsible changes.

• In your opinion, what are the three to five most essential services APHIS provides and why?

• Please share any feedback regarding how you feel we can best structure or provide these services.

• When you or your members seek APHIS' assistance, do you primarily rely on our local field offices, State offices, regional offices, research centers and field stations, or headquarters for support? Why?

• As we continue to look at ways to improve our processes and enhance customer service, what recommendations do you have for specific efforts we could undertake in 2012?

2. Given limited resources, APHIS is seeking new ways to enhance existing partnerships and build new ones.

• How might we strengthen current partnerships or collaborate in new ways to accomplish critical mission activities?

• Do you see opportunities for APHIS, State governments, tribes, industry and academia to redefine traditional roles to find efficiencies or improvements in the way we collectively safeguard American agriculture? As best you can, please be specific or provide examples.

3. Please provide any additional comments or feedback you would like to share with APHIS' leadership, especially as it relates to how you like to see APHIS management communicate with you at the local, regional, and national level. Please be specific.

You may submit your thoughts on these questions by sending them to the person listed under FOR FURTHER INFORMATION CONTACT or by using the Web form provided on the APHIS stakeholder information Web site at http://www.aphis.usda.gov/stakeholders/. Responses may also be submitted via email to Partnerships@aphis.usda.gov.

On-site registration will begin at noon on the day of the meeting. All participants must register. If you require special accommodations, such as a sign language interpreter, or if you have any questions regarding the meeting, please call or write the person listed under FOR FURTHER INFORMATION CONTACT.

If you are unable to attend the meeting in person, it will be streamed on the Internet as a live Webcast. To view the Webcast, go to http://www.aphis.usda.gov/stakeholders/ and follow the instructions to access the streaming video and audio in “listen only” mode. We recommend you connect at least 5 minutes prior to the start of the meeting. A recording of the Webcast will be posted to the APHIS stakeholder information page the following day, and a written transcript will be posted to the page as soon as it is available.

Persons attending the February 27, 2012, meeting in Washington, DC, will be required to sign in at the entrance to the USDA South Building located at 14th Street and Independence Avenue, entering through Wing 7. Photo identification is required to gain access to the building. The nearest Metro station is the Smithsonian station on the Blue/Orange Lines, which is within easy walking distance.

Done in Washington, DC, this 6th day of February 2012.
Kevin Shea,
Acting Administrator, Animal and Plant Health Inspection Service.

[FR Doc. 2012-3186 Filed 2-9-12; 8:45 am]

BILLING CODE 3410-34-P